COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add products to the Procurement List that will be furnished by a nonprofit agency employing persons who are blind or have other severe disabilities, and deletes a service previously provided by such agency.

Comments Must Be Received on or Before: 7/9/2017.

ADDRESSES: Committee for Purchase From People Who Are Blind or Severely Disabled, 1401 S. Clark Street, Suite 715, Arlington, Virginia, 22202-4149.

FOR FURTHER INFORMATION OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from a nonprofit agency employing persons who are blind or have other severe disabilities.

The following products are proposed for addition to the Procurement List for production by the nonprofit agency listed:

Products:

NSN(s)—Product Name(s):

7125-01-151-5435—Cabinet, Key, Wall Mounting, 30 Key, Gray Steel

7125-00-132-8973—Cabinet, Key, Wall Mounting, 70 Key, Grey

7125-00-285-3049—Cabinet, Key, Wall Mounting, 90 Key

Mandatory for: Total Government Requirement

Mandatory Source(s) of Supply: LC Industries, Inc., Durham, NC

Contracting Activity: General Services Administration, Philadelphia, PA

Distribution: A-List

Deletion

The following service is proposed for deletion from the Procurement List:

Service

Service Type: Administrative Service

Mandatory for: National Aeronautics and Space Administration: Marshall Space Flight Center, 4200 Complex, Marshall Space, AL

Mandatory Source(s) of Supply: The ARC of Madison County, Inc., Huntsville, AL

Contracting Activity: National Aeronautics and Space Administration, NASA Headquarters

Amy B. Jensen,
Director, Business Operations.

[FR Doc. 2017-12014 Filed 6-8-17; 8:45 am]

BILLING CODE 6353-01-P